DEPARTMENT OF ENERGY

Federal Energy Regulatory Commission

Combined Notice of Filings # 1

January 17, 2008.

Take notice that the Commission received the following electric corporate filings:

Docket Numbers: EC08-36-000.

Applicants: Consolidated Edison Development, Inc., CED/SCS Newington, LLC, Consolidated Edison Energy Massachusetts, Newington Energy, LLC, CED Rock Springs, LLC, Lakewood Cogeneration LP, Ocean Peaking Power, L.L.C., North American Energy Alliance, LLC, Allco Finance Group Limited, Industry Funds Management (Nominees) Lim.

Description: Consolidated Edison Development Inc et al submits Joint Application under Section 203 of the Federal Power Act for Authorization of Transactions and Requests for Waivers and Expedited Considerations under EC08-36.

Filed Date: 01/09/2008.

Accession Number: 20080111-0016.

Comment Date: 5 p.m. Eastern Time on Wednesday, January 30, 2008.

Take notice that the Commission received the following electric rate filings:

Docket Numbers: ER99-2369-003.

Applicants: Alliance for Cooperative Energy Services.

Description: Alliance for Cooperative Energy Services Power Marketing, LLC submits an update on its membership roster.

Filed Date: 01/14/2008.

Accession Number: 20080117-0026.

Comment Date: 5 p.m. Eastern Time on Monday, February 4, 2008.

Docket Numbers: ER01-3001-019; ER03-647-011.

Applicants: New York Independent System Operator, Inc.

Description: New York Independent System Operator, Inc. Reports on Demand Side Programs, New Generation, and the ICAP Demand Curves.

Filed Date: 01/15/2008.

Accession Number: 20080115-5050.

Comment Date: 5 p.m. Eastern Time on Tuesday, February 5, 2008.

Docket Numbers: ER05-132-002.

Applicants: Pacific Gas and Electric Company; Western Area Power Administration; U.S. Bureau of Reclamation.

Description: Pacific Gas & Electric Co submits an Offer of Settlement between all parties.

Filed Date: 12/05/2007.

Accession Number: 20071205-4011.

Comment Date: 5 p.m. Eastern Time on Monday, January 27, 2008.

Reply Comment Date: 5 p.m. Eastern Time on Monday, February 4, 2008.

Docket Numbers: ER07-466-001.

Applicants: MET MA, LLC.

Description: MET MA, LLC submits notice of a non-material change in status.

Filed Date: 01/14/2008.

Accession Number: 20080117-0027.

Comment Date: 5 p.m. Eastern Time on Monday, February 4, 2008.

Docket Numbers: ER07-521-001.

Applicants: New York Independent System Operator, Inc.

Description: Report on Implementation Plans of the New York Independent System Operator, Inc.

Filed Date: 12/20/2007.

Accession Number: 20071220-5127.

Comment Date: 5 p.m. Eastern Time on Monday, January 28, 2008.

Docket Numbers: ER07-671-005.

Applicants: Trigen-St. Louis Energy Corporation.

Description: Trigen-St Louis Energy Corp. submits a notice of non-material change in status in compliance with Order 652.

Filed Date: 01/14/2008.

Accession Number: 20080117-0028.

Comment Date: 5 p.m. Eastern Time on Monday, February 4, 2008.

Docket Numbers: ER07-1096-004.

Applicants: Niagara Mohawk Power Corporation.

Description: Electric Refund Report (Compliance Only) of Niagara Mohawk Power Corporation.

Filed Date: 01/03/2008.

Accession Number: 20080103-5059.

Comment Date: 5 p.m. Eastern Time on Thursday, January 24, 2008.

Docket Numbers: ER07-1126-005.

Applicants: Niagara Mohawk Power Corporation.

Description: Niagara Mohawk Power submits an addendum to the 11/30/07 Refund Report.

Filed Date: 01/14/2008.

Accession Number: 20080116-0072.

Comment Date: 5 p.m. Eastern Time on Monday, February 4, 2008.

Docket Numbers: ER07-1291-003; OA07-54-002.

Applicants: PacifiCorp.

Description: PacifiCorp submits a refund report in accordance with FERC's order issued on 11/30/07.

Filed Date: 01/04/2008.

Accession Number: 20080108-0038.

Comment Date: 5 p.m. Eastern Time on Friday, January 25, 2008.

Docket Numbers: ER07-1394-001.

Applicants: PJM Interconnection, L.L.C.

Description: PJM Interconnection, LLC responds to the 11/13/07 deficiency letter re the 9/21/07 filing of an executed interconnection service agreement with Ameresco Stafford LLC et al.

Filed Date: 01/11/2008.

Accession Number: 20080114-0409.

Comment Date: 5 p.m. Eastern Time on Friday, February 1, 2008.

Docket Numbers: ER08-64-001.

Applicants: California Independent System Operator Corporation

Description: California Independent System Operator Corp. submits their compliance filing, in compliance with FERC's 12/14/07 Order.

Filed Date: 01/15/2008.

Accession Number: 20080117-0029.

Comment Date: 5 p.m. Eastern Time on Tuesday, February 5, 2008.

Docket Numbers: ER08-80-001.

Applicants: The Detroit Edison Company.

Description: The Detroit Edison Company submits its wholesale distribution service agreement with the header and footer information required by Order 614.

Filed Date: 01/16/2008.

Accession Number: 20080117-0035.

Comment Date: 5 p.m. Eastern Time on Wednesday, February 6, 2008.

Docket Numbers: ER08-101-001.

Applicants: PJM Interconnection, L.L.C.

Description: PJM Interconnection, L.L.C. submits its response to the Commission's December 18, 2007 deficiency letter.

Filed Date: 01/16/2008.

Accession Number: 20080117-0036.

Comment Date: 5 p.m. Eastern Time on Wednesday, February 6, 2008.

Docket Numbers: ER08-191-003.

Applicants: Aquila, Inc.

Description: Aquila Inc. submits a Notice of Cancellation.

Filed Date: 01/14/2008.

Accession Number: 20080116-0071.

Comment Date: 5 p.m. Eastern Time on Monday, February 4, 2008.

Docket Numbers: ER08-250-001.

Applicants: Langdon Wind, LLC.

Description: Langdon Wind LLC submits an amendment to the market-based rate application.

Filed Date: 01/15/2008.

Accession Number: 20080117-0030.

Comment Date: 5 p.m. Eastern Time on Monday, January 28, 2008.

Docket Numbers: ER08-438-000.

Applicants: PJM Interconnection, L.L.C.

Description: PJM Interconnection LLC submits an executed Wholesale Market Participation Agreement with WM Renewable Energy LLC et al.

Filed Date: 01/14/2008.

Accession Number: 20080116-0067.

Comment Date: 5 p.m. Eastern Time on Monday, February 4, 2008.

Docket Numbers: ER08-439-000.

Applicants: Southern California Edison Company.

Description: Southern California Edison Company submits Black Start Agreement between SCE and the California Independent System Operator Corporation.

Filed Date: 01/14/2008.

Accession Number: 20080116-0068.

Comment Date: 5 p.m. Eastern Time on Monday, February 4, 2008.

Docket Numbers: ER08-440-000.

Applicants: Florida Power & Light Company.

Description: Florida Power & Light Co submits a new Rate Schedule 313 Agreement for Specified Services and Treasures Coast Energy Center Parallel Operation.

Filed Date: 01/14/2008.

Accession Number: 20080116-0069.

Comment Date: 5 p.m. Eastern Time on Monday, February 4, 2008.

Docket Numbers: ER08-441-000.

Applicants: Velocity American Energy Master I, L.P.

Description: Velocity American Energy Master I LP submits its Rate Schedule 1.

Filed Date: 01/14/2008.

Accession Number: 20080116-0070.

Comment Date: 5 p.m. Eastern Time on Monday, February 4, 2008.

Docket Numbers: ER08-445-000.

Applicants: Upper Peninsula Power Company.

Description: Upper Peninsula Power Co submits notice of cancellation of their Interconnection Agreement dated 12/12/86 as amended Rate Schedule 29.

Filed Date: 01/15/2008.

Accession Number: 20080117-0039.

Comment Date: 5 p.m. Eastern Time on Tuesday, February 5, 2008.

Docket Numbers: ER08-446-000.

Applicants: Kelson Energy III LLC.

Description: Kelson Energy III, LLC submits its application for an order accepting rates for filing and for certain waivers and blanket approvals, FERC Electric Tariff, Original Volume 1 etc.

Filed Date: 01/14/2008.

Accession Number: 20080117-0040.

Comment Date: 5 p.m. Eastern Time on Monday, February 4, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-1307 Filed 1-24-08; 8:45 am]

BILLING CODE 6717-01-P